DEPARTMENT OF ENERGY

Federal Energy Regulatory Commission

Combined Notice of Filings #2

Take notice that the Commission received the following electric corporate filings:

Docket Numbers: EC19-108-000.

Applicants: Valentine Solar, LLC, Glaciers Edge Wind Project, LLC.

Description: Application for Authorization Under Section 203 of the Federal Power Act, et al. of Valentine Solar, LLC, et al.

Filed Date: 7/1/19.

Accession Number: 20190701-5401.

Comments Due: 5 p.m. ET 7/22/19.

Take notice that the Commission received the following electric rate filings:

Docket Numbers: ER10-2290-007.

Applicants: Avista Corporation.

Description: Triennial Market Power Update for the Northwest Region of Avista Corporation.

Filed Date: 7/1/19.

Accession Number: 20190701-5387.

Comments Due: 5 p.m. ET 8/30/19.

Docket Numbers: ER10-2475-019; ER10-2474-019; ER10-3246-013; ER12-21-021; ER13-1266-022; ER15-2211-019.

Applicants: Nevada Power Company, Sierra Pacific Power Company, PacifiCorp, Agua Caliente Solar, LLC, CalEnergy, LLC, MidAmerican Energy Service LLC.

Description: Updated Market Power Analysis for the Northwest Region of the BHE Northwest Entities.

Filed Date: 6/28/19.

Accession Number: 20190628-5333.

Comments Due: 5 p.m. ET 8/27/19.

Docket Numbers: ER10-2739-025; ER10-1892-012; ER13-1430-006; ER13-1561-006; ER16-1652-013; ER17-1490-001; ER19-170-001.

Applicants: LS Power Marketing, LLC, Arlington Valley Solar Energy II, LLC, Centinela Solar Energy, LLC, Columbia Energy LLC, Gateway Energy Storage, LLC, LifeEnergy, LLC, Vista Energy Storage, LLC.

Description: Updated Market Power Analysis for the Southwest Region of LS Power Marketing, LLC, et al.

Filed Date: 7/1/19.

Accession Number: 20190701-5414.

Comments Due: 5 p.m. ET 8/30/19.

Docket Numbers: ER10-2822-014; ER10-3158-008; ER10-3161-008; ER10-3162-008; ER12-308-008; ER16-1238-002; ER16-1250-006; ER17-1242-001; ER17-1392-002.

Applicants: Atlantic Renewable Projects II LLC, Avangrid Arizona Renewables, LLC, Avangrid Renewables, LLC, El Cabo Wind LLC, Dillon Wind LLC, Manzana Wind LLC, Mountain View Power Partners III, LLC, Shiloh I Wind Project, LLC, Tule Wind LLC.

Description: Updated Market Power Analysis of the Avangrid Southwest MBR Sellers.

Filed Date: 7/1/19.

Accession Number: 20190701-5415.

Comments Due: 5 p.m. ET 8/30/19.

Docket Numbers: ER15-1596-008; ER10-2590-006; ER10-2593-006; ER10-2616-015; ER11-4400-012; ER15-1599-008; ER15-1958-007; ER19-102-001.

Applicants: Dynegy Commercial Asset Management, LLC, Dynegy Energy Services (East), LLC, Dynegy Marketing and Trade, LLC, Dynegy Moss Landing, LLC, Dynegy Oakland, LLC, Dynegy Power Marketing, LLC, Dynegy Resources Management, LLC, Luminant Energy Company LLC.

Description: Updated Triennial Market Power Analysis for the Southwest Region by the Vistra Southwest MBR Sellers.

Filed Date: 7/1/19.

Accession Number: 20190701-5416.

Comments Due: 5 p.m. ET 8/30/19.

Docket Numbers: ER16-748-003.

Applicants: Sentinel Energy Center, LLC.

Description: Market Power Update of Sentinel Energy Center, LLC.

Filed Date: 7/1/19.

Accession Number: 20190701-5406.

Comments Due: 5 p.m. ET 8/30/19.

Docket Numbers: ER17-2059-004; ER10-3097-009.

Applicants: Puget Sound Energy, Inc., Bruce Power Inc.

Description: Updated Market Power Analysis in the Northwest Region for Puget Sound Energy, Inc., et al.

Filed Date: 7/1/19.

Accession Number: 20190701-5395.

Comments Due: 5 p.m. ET 8/30/19.

Docket Numbers: ER18-2033-001.

Applicants: Saavi Energy Solutions, LLC.

Description: Updated Market Power Analysis for Southwest Region of Saavi Energy Solutions, LLC.

Filed Date: 7/1/19.

Accession Number: 20190701-5407.

Comments Due: 5 p.m. ET 8/30/19.

Docket Numbers: ER19-1415-001; ER11-2508-024; ER19-2140-001; ER19-2141-001; ER19-2142-001; ER19-2143-001; ER19-2144-001; ER19-2145-001; ER19-2146-001; ER19-2147-001; ER19-2148-001.

Applicants: GenOn California South, LP, GenOn Energy Management, LLC, Brunot Island Power, LLC, Gilbert Power, LLC, Heritage Power Marketing, LLC, Mountain Power, LLC, New Castle Power, LLC, Portland Power, LLC, Sayreville Power, LLC, Shawville Power, LLC, Warren Generation, LLC.

Description: Updated Market Power Analysis for the Southwest Region of the GenOn Holdings, Inc. subsidiaries.

Filed Date: 7/1/19.

Accession Number: 20190701-5412.

Comments Due: 5 p.m. ET 8/30/19.

Docket Numbers: ER19-1704-001.

Applicants: Midcontinent Independent System Operator, Inc.

Description: Tariff Amendment: 2019-06-28_SA 2010 Ameren-SIPC Substitute WDS Agreement to be effective 12/31/9998.

Filed Date: 6/28/19.

Accession Number: 20190628-5241.

Comments Due: 5 p.m. ET 7/19/19.

Docket Numbers: ER19-1932-002.

Applicants: Duke Energy Progress, LLC.

Description: Tariff Amendment: Amendment to DEP-PJM Amended JOA Concurrence to be effective 7/22/2019.

Filed Date: 7/2/19.

Accession Number: 20190702-5138.

Comments Due: 5 p.m. ET 7/23/19.

Docket Numbers: ER19-2050-001.

Applicants: GridLiance Heartland LLC, Midcontinent Independent System Operator, Inc.

Description: Tariff Amendment: 2019-07-02_Errata to GridLiance Heartland Revisions to Incorporate Formula to be effective 9/1/2019.

Filed Date: 7/2/19.

Accession Number: 20190702-5141.

Comments Due: 5 p.m. ET 7/23/19.

Docket Numbers: ER19-2328-000.

Applicants: AEP Texas Inc.

Description: § 205(d) Rate Filing: AEPTX-Pedernales Electric Cooperative Interconnection Agr. 1st Amend/Restated to be effective 3/13/2019.

Filed Date: 7/2/19.

Accession Number: 20190702-5000.

Comments Due: 5 p.m. ET 7/23/19.

Docket Numbers: ER19-2329-000.

Applicants: Midcontinent Independent System Operator, Inc., Ameren Illinois Company.

Description: § 205(d) Rate Filing: 2019-07-02_SA 2880 Att A-Project Specifications No. 4 WVPA-EnerStar-West Union to be effective 6/3/2019.

Filed Date: 7/2/19.

Accession Number: 20190702-5044.

Comments Due: 5 p.m. ET 7/23/19.

Docket Numbers: ER19-2330-000.

Applicants: Arizona Public Service Company.

Description: Notice of Cancellation of Rate Schedule No. 218 of Arizona Public Service Company.

Filed Date: 7/1/19.

Accession Number: 20190701-5386.

Comments Due: 5 p.m. ET 7/22/19.

Docket Numbers: ER19-2331-000.

Applicants: Entergy Nuclear Generation Company.

Description: Tariff Cancellation: Entergy Nuclear Generation Company to be effective 6/10/2019.

Filed Date: 7/2/19.

Accession Number: 20190702-5097.

Comments Due: 5 p.m. ET 7/23/19.

Docket Numbers: ER19-2332-000.

Applicants: Southern California Edison Company.

Description: § 205(d) Rate Filing: Letter Agreement with EC&R Solar Development, LLC, Painter BESS to be effective 7/3/2019.

Filed Date: 7/2/19.

Accession Number: 20190702-5100.

Comments Due: 5 p.m. ET 7/23/19.

Docket Numbers: ER19-2333-000.

Applicants: Public Service Company of Colorado.

Description: § 205(d) Rate Filing: PSCo Reserve Energy Tariff_Eff. 9.3.19 to be effective 9/3/2019.

Filed Date: 7/2/19.

Accession Number: 20190702-5101.

Comments Due: 5 p.m. ET 7/23/19.

Docket Numbers: ER19-2334-000.

Applicants: Public Service Company of Colorado.

Description: § 205(d) Rate Filing: OATT-PSCO Transition From RMRG to NWPP to be effective 9/3/2019.

Filed Date: 7/2/19.

Accession Number: 20190702-5102.

Comments Due: 5 p.m. ET 7/23/19.

Docket Numbers: ER19-2335-000.

Applicants: Public Service Company of Colorado.

Description: § 205(d) Rate Filing: PSC-TSGT-BkCoU-CSU-BAA-SubentitiyRSA-538-0.0.0 to be effective 9/3/2019.

Filed Date: 7/2/19.

Accession Number: 20190702-5103.

Comments Due: 5 p.m. ET 7/23/19.

Docket Numbers: ER19-2336-000.

Applicants: Public Service Company of Colorado.

Description: § 205(d) Rate Filing: PSC-WAPA-WACM-Subentity-RsrvShrngSvcAgrmt-547-0.0.0 to be effective 9/3/2019.

Filed Date: 7/2/19.

Accession Number: 20190702-5104.

Comments Due: 5 p.m. ET 7/23/19.

Docket Numbers: ER19-2337-000.

Applicants: Public Service Company of Colorado.

Description: § 205(d) Rate Filing: PSC-MEAN-NITS-246-0.0.0-Filing to be effective 9/3/2019.

Filed Date: 7/2/19.

Accession Number: 20190702-5105.

Comments Due: 5 p.m. ET 7/23/19.

Docket Numbers: ER19-2338-000.

Applicants: PJM Interconnection, L.L.C.

Description: § 205(d) Rate Filing: Original ISA, SA No. 5416; Queue No. AC2-067/AC2-068 to be effective 6/4/2019.

Filed Date: 7/2/19.

Accession Number: 20190702-5144.

Comments Due: 5 p.m. ET 7/23/19.

Docket Numbers: ER19-2339-000.

Applicants: PacifiCorp.

Description: § 205(d) Rate Filing: Cedar Springs Wind LGIA to be effective 9/1/2019.

Filed Date: 7/2/19.

Accession Number: 20190702-5145.

Comments Due: 5 p.m. ET 7/23/19.

Docket Numbers: ER19-2340-000.

Applicants: Black Hills Power, Inc.

Description: § 205(d) Rate Filing: Subentity Reserve Sharing Agreement (BHP) to be effective 9/3/2019.

Filed Date: 7/2/19.

Accession Number: 20190702-5166.

Comments Due: 5 p.m. ET 7/23/19.

Docket Numbers: ER19-2341-000.

Applicants: AEP Texas Inc.

Description: § 205(d) Rate Filing: AEPTX-Las Majadas Wind Farm Interconnection Agreement First Amend & Restated to be effective 6/14/2019.

Filed Date: 7/2/19.

Accession Number: 20190702-5168.

Comments Due: 5 p.m. ET 7/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2019.
Nathaniel J. Davis, Sr.,
Deputy Secretary.

[FR Doc. 2019-14643 Filed 7-9-19; 8:45 am]

BILLING CODE 6717-01-P